DEPARTMENT OF HOUSING AND URBAN DEVELOPMENT

[Docket No. FR-4591-N-04]

Notice of Regulatory Waiver Requests Granted for the Fourth Quarter of Calendar Year 2000

AGENCY: Office of the General Counsel, HUD.

ACTION: Public Notice of the granting of regulatory waivers from October 1, 2000 through December 31, 2000.

SUMMARY: Section 106 of the Department of Housing and Urban Development Reform Act of 1989 (the “HUD Reform Act”), requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on October 1, 2000 and ending on December 31, 2000.

FOR FURTHER INFORMATION CONTACT: For general information about this notice, contact Aaron Santa Anna, Assistant General Counsel for Regulations, Room 10282, Department of Housing and Urban Development, 451 Seventh Street, SW, Washington, DC 20410; telephone (202) 708-3055 (this is not a toll-free number). Hearing or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: As part of the Housing and Urban Development Reform Act of 1989 (the “HUD Reform Act”), the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request;

e. State how additional information about a particular waiver grant action may be obtained.

Section 106 of the HUD Reform Act also contains requirements applicable to waivers of HUD handbook provisions that are not relevant to the purpose of this notice.

Today's document follows publication of HUD's Statement of Policy on Waiver of Regulations and Directives issued by HUD on April 22, 1991 (56 FR 16337). This notice covers HUD's waiver-grant activity from October 1, 2000 through December 31, 2000. Additionally, this notice contains three reports on regulatory waivers granted during 1999, which were inadvertently omitted in the 1999 reports. These reports can be found in Section IV of this notice.

For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement in title 24 that is being waived as part of the waiver-grant action. For example, a waiver of both § 58.73 and § 58.74 would appear sequentially in the listing under § 58.73.

Waiver-grant actions involving the same initial regulatory citation are in time sequence beginning with the earliest-dated waiver grant action.

Should HUD receive additional reports of waiver actions taken during the period covered by this report before the next report is published, the next updated report will include these earlier actions, as well as those that occurred between January 1, 2001 through March 30, 2001.

Accordingly, information about approved waiver requests pertaining to HUD regulations is provided in the Appendix that follows this notice.

Dated: May 2, 2001.
George Weidenfeller,
Deputy General Counsel for Housing Finance and Operations.

Appendix

Listing of Waivers of Regulatory Requirements Granted by Offices of the Department of Housing and Urban Development, October 1, 2000 through December 30, 2000

Note to Reader: More information about the granting of these waivers, including a copy of the waiver request and approval, may be obtained by contacting the person whose name is listed as the contact person directly before each set of waivers granted.

The regulatory waivers granted appear in the following order:

I. Regulatory waivers granted by the Office of Community Planning and Development.

II. Regulatory waivers granted by the Office of Community Planning and Development and the Office of Public and Indian Housing.

III. Regulatory waivers granted by the Office of Housing.

IV. Regulatory waivers granted by the Office of Multifamily Housing Assistance Restructuring.

V. Regulatory waivers granted by the Office of Public and Indian Housing.

I. Regulatory Waivers Granted by the Office of Community Planning and Development

For further information about the following waiver actions, please see the name of the contact person which immediately follows the description of the waiver granted.

• Regulation: 24 CFR 91.520(a).

Project/Activity: Harris County, Texas requested a waiver of the submission deadline for the County's 1999 program year Consolidated Annual Performance and Evaluation Report (CAPER).

Nature of Requirement: 24 CFR 91.520(a) requires each grantee to submit a CAPER to HUD within 90 days after the close of the grantee's program year.

Granted By: Cardell Cooper, Assistant Secretary for Community Planning and Development.

Date Granted: October 18, 2000.

Reason Waived: The Department found good cause for granting the waiver. The County requested the extension of time to address concerns related to its financial recordkeeping.

Contact: Cornelia Robertson-Terry, Office of Community Planning and Development, Department of Housing and Urban Development, 451 Seventh Street, SW, Room 7152, Washington, DC 20410, telephone (202) 708-2565.

• Regulation: 24 CFR 91.520(a).

Project/Activity: The City of Binghamton, NY requested a waiver of the submission deadline for the City's 1999 program year CAPER.

Nature of Requirement: 24 CFR 91.520(a) requires each grantee to submit a CAPER to HUD within 90 days after the close of the grantee's program year.

Granted By: Cardell Cooper, Assistant Secretary for Community Planning and Development.

Date Granted: November 28, 2000.

Reason Waived: The Department found good cause for granting the waiver. The City needs additional time due to public hearing requirements and recent staff changes.

Contact: Cornelia Robertson-Terry, Office of Community Planning and Development, Department of Housing and Urban Development, 451 Seventh Street, SW, Room 7152, Washington, DC 20410, telephone (202) 708-2565.

• Regulation: 24 CFR 91.520(a).

Project/Activity: The City of Middleton, Connecticut requested a waiver of the submission deadline for the City's 1999 program year CAPER.

Nature of Requirement: 24 CFR 91.520(a) requires each grantee to submit a CAPER to HUD within 90 days after the close of the grantee's program year.

Granted By: Cardell Cooper, Assistant Secretary for Community Planning and Development.

Date Granted: November 28, 2000.

Reason Waived: The Department found good cause for granting the waiver. The City requested the extension of time because of problems resulting from the computer system upgrade and recent staff changes.

Contact: Cornelia Robertson-Terry, Office of Community Planning and Development, Department of Housing and Urban Development, 451 Seventh Street, SW, Room 7152, Washington, DC 20410, telephone (202) 708-2565.

• Regulation: 24 CFR 91.520(a).

Project/Activity: Nassau County, New York requested a waiver of the submission deadline for the County's 1999 program year CAPER.

Nature of Requirement: 24 CFR 91.520(a) requires each grantee to submit a CAPER to HUD within 90 days after the close of the grantee's program year.

Granted By: Cardell Cooper, Assistant Secretary for Community Planning and Development.

Date Granted: December 6, 2000.

Reason Waived: The Department found good cause for granting the waiver. The County experienced severe staff reductions that limited its ability to collect and evaluate information required to prepare the CAPER.

Contact: Cornelia Robertson-Terry, Office of Community Planning and Development, Department of Housing and Urban Development, 451 Seventh Street, SW, Room 7152, Washington, DC 20410, telephone (202) 708-2565.

• Regulation: 24 CFR 91.520(a).

Project/Activity: The City of Tyler, Texas requested a waiver of the submission deadline for the City's 1999 program year CAPER.

Nature of Requirement: 24 CFR 91.520(a) requires each grantee to submit a CAPER to HUD within 90 days after the close of the grantee's program year.

Granted By: Cardell Cooper, Assistant Secretary for Community Planning and Development.

Date Granted: December 15, 2000.

Reason Waived: The Department found good cause for granting the waiver. The City needs additional time due to recent staff changes.

Contact: Cornelia Robertson-Terry, Office of Community Planning and Development, Department of Housing and Urban Development, 451 Seventh Street, SW, Room 7152, Washington, DC 20410, telephone (202) 708-2565.

• Regulation: 24 CFR 91.520(a).

Project/Activity: The Town of Cicero, Illinois requested a waiver of the submission deadline for the Town's 1999 program year CAPER.

Nature of Requirement: 24 CFR 91.520(a) requires each grantee to submit a CAPER to HUD within 90 days after the close of the grantee's program year.

Granted By: Cardell Cooper, Assistant Secretary for Community Planning and Development.

Date Granted: December 15, 2000.

Reason Waived: The Department found good cause for granting the waiver. The Town recently experienced staff changes and needs time to ensure that the report is accurate.

Contact: Cornelia Robertson-Terry, Office of Community Planning and Development, Department of Housing and Urban Development, 451 Seventh Street, SW, Room 7152, Washington, DC 20410, telephone (202) 708-2565.

• Regulation: 24 CFR 91.520(a).

Project/Activity: The City of Fairfield, Connecticut requested a waiver of the submission deadline for the City's 1999 program year CAPER.

Nature of Requirement: 24 CFR 91.520(a) requires each grantee to submit a CAPER to HUD within 90 days after the close of the grantee's program year.

Granted By: Cardell Cooper, Assistant Secretary for Community Planning and Development.

Date Granted: December 27, 2000.

Reason Waived: The Department found good cause for granting the waiver. The City needed additional time to reconcile its financial accounting system. Further, the City recently experienced staff changes and the CAPER is being prepared by staff with no prior experience with its preparation.

Contact: Cornelia Robertson-Terry, Office of Community Planning and Development, Department of Housing and Urban Development, 451 Seventh Street, SW, Room 7152, Washington, DC 20410, telephone (202) 708-2565.

• Regulation: 24 CFR 574.320(a)(2).

Project/Activity: The City of Boston, Massachusetts requested a waiver of the Housing Opportunities for Persons with AIDS (HOPWA) regulations to increase HOPWA rent standards to 110% of the Fair Market Rent (FMR) for all HOPWA-assisted units and authorization to increase the rent standard up to 120% on unit-by-unit basis for all units, with no 20% cap on the number of units subject to exception rents.

Nature of Requirement: 24 CFR 574.320(a)(2) requires that the rent standard not exceed the published FMR or community-wide exception rent.

Granted By: Cardell Cooper, Assistant Secretary for Community Planning and Development.

Date Granted: October 18, 2000.

Reason Waived: The Department found good cause for the waiver because the City documented the high housing costs in the area and the need for consistency with other special needs programs.

Contact: Cornelia Robertson-Terry, Office of Community Planning and Development, Department of Housing and Urban Development, 451 Seventh Street, SW, Room 7152, Washington, DC 20410, telephone (202) 708-2565.

• Regulation: 24 CFR 576.21(b)(2).

Project/Activity: The City of Binghamton, New York requested a waiver of the thirty percent limitation on essential services.

Nature of Requirement: HUD's regulation at 24 CFR 576.21(b)(2) imposes the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development.

Date Granted: December 12, 2000.

Reason Waived: The City documented other resources to carry out eligible activities to assist the homeless.

Contact: Cornelia Robertson-Terry, Office of Community Planning and Development, Department of Housing and Urban Development, 451 Seventh Street, SW, Room 7152, Washington, DC 20410, telephone (202) 708-2565.

• Regulation: 24 CFR 576.21(b)(2).

Project/Activity: The City of Bridgeport, Connecticut requested a waiver of the thirty percent limitation on essential services.

Nature of Requirement: HUD's regulation at 24 CFR 576.21(b)(2) imposes the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development.

Date Granted: December 12, 2000.

Reason Waived: The City documented other resources to carry out eligible activities to assist the homeless.

Contact: Cornelia Robertson-Terry, Office of Community Planning and Development, Department of Housing and Urban Development, 451 Seventh Street, SW, Room 7152, Washington, DC 20410, telephone (202) 708-2565.

II. Regulatory Waivers Granted by the Office of Community Planning and Development and the Office of Public and Indian Housing

For further information about the following waiver actions, please see the name of the contact person which immediately follows the description of the waiver granted.

• Regulation: 24 CFR 58.34(b) and 24 CFR 58.38.

Project/Activity: Renovation of an existing community building with Indian Community Development Block Grant funds, Menominee Indian Tribe of Wisconsin.

Nature of Requirement: HUD's regulation at § 58.34(b) states that a recipient does not have to submit a Request for Release of Funds and Certification, and no further approval from HUD will be needed to carry out exempt activities and projects, provided the responsible entity documents its determination that each activity or project is exempt. Additionally, § 58.38 requires the responsible entity to maintain a written record of the environmental review for each project. This document will be designated the Environmental Review Record, which shall contain all environmental review documents, public notices and written determinations or environmental findings required by Part 58 as evidence of review, decision making and actions pertaining to a particular project.

Granted By: Cardell Cooper, Assistant Secretary for Community Planning and Development, and Harold Lucas, Assistant Secretary for Public and Indian Housing.

Date Granted: October 19, 2000

Reason Waived: The Tribe made an error during the 24 CFR part 58 environmental review and clearance process for the subject project in that it obligated the expenditure of HUD funds prior to a determination by the Tribe that the project was exempt pursuant to 24 CFR 58.34(a)(12). HUD made a determination that there was no statutory or regulatory provision that would have prevented conversion of these activities to exempt. Therefore, this waiver is needed in order to permit the Tribe to complete the environmental review process by documenting that the activities are exempt under 24 CFR Part 58, after the obligation of HUD funds. HUD also determined that no environmental degradation resulted from the regulatory noncompliance and that no mitigation activities would be necessary since no environmental damage or potential problems were identified. Considering the above, HUD determined that a waiver of the regulatory requirements would maintain the integrity of HUD's environmental review process and was consistent with Executive Order 12084 that encourages flexibility in the consideration of waiver requests from tribal governments.

Contact: Bruce Knott, Director, Office of Grants Evaluation, Office of Public and Indian Housing, Department of Housing and Urban Development, 1999 Broadway, Suite 3390, Box 90, Denver, CO 80202, (303) 675-1600.

III. Regulatory Waivers Granted by the Office of Housing

For further information about the following waiver actions, please see the name of the contact person which immediately follows the description of the waiver granted.

• Regulation: 24 CFR 202.3(c)(2)(iii).

Project/Activity: To raise the threshold for placing a HUD/FHA approved lender on Credit Watch status when its default and claim rate exceeds the HUD Field Office default and claim rate.

Nature of Requirement: HUD's regulation at 24 CFR 202.3(c)(2)(iii) provides that the Secretary may notify a mortgagee that it is on credit watch status if the mortgagee had a rate of defaults and claims on insured mortgages originated in an area which exceeded 150 percent, but not 200 percent, of the normal rate.

Granted By: William C. Apgar, Assistant Secretary for Housing—Federal Housing Commissioner.

Date Granted: November 27, 2000.

Reason Waived: Waiving the regulation permits HUD/FHA to initially focus on those lenders originating the worst performing loans. The waiver will adjust the Credit Watch threshold from being between 150% and 200.9% of the HUD field office default and claim rate to being between 200% and 300.9% of that rate. This waiver is limited to Credit Watch reviews conducted in the fourth quarter of Fiscal Year 2000.

Contact: Joy Hadley, Director, Quality Assurance Division, Department of Housing and Urban Development, 451 Seventh Street SW, Room B133-P3214, Washington, DC 20410, telephone (202) 708-2830.

• Regulation: 24 CFR 203.21.

Project/Activity: Maryland Department of Housing and Community Development “Homeownership Opportunities for Teachers.”

Nature of Requirement: HUD's regulations at 24 CFR 203.21 require that the mortgage payments due each month be substantially the same. This regulation would have precluded the ability of the applicant to offer a product designed to reward Maryland public school teachers that would remain within the system for at least three years and results in an increased mortgage interest rate should the homebuyer not remain employed by the Maryland public schools.

Granted By: William C. Apgar, Assistant Secretary for Housing—Federal Housing Commissioner.

Date Granted: November 2, 2000.

Reason Waived: HUD determined that there was good cause for the waiver. The proposal allows the Maryland Department of Housing and Community Development to provide more affordable payments for qualified homebuyers during the life of the mortgage provided that they remain within the Maryland public schools for at least three years from the date of the mortgage note.

Contact: Vance T. Morris, Director, Office of Single Family Program Development, Department of Housing and Urban Development, 451 Seventh Street SW, Washington, DC 20410-3600; telephone: (202) 708-2700, ext. 2204.

• Regulation: 24 CFR 891.100(d).

Project/Activity: B'Nai B'rith at Chesilhurst House, Chesilhurst, NJ; Project Number: 035-EE029/NJ39-S971-006.

Nature of Requirement: HUD's regulation at 24 CFR 891.100(d) prohibits amendment of the amount of approved capital advance funds prior to initial closing.

Granted By: William C. Apgar, Assistant Secretary for Housing—Federal Housing Commissioner.

Date Granted: October 16, 2000.

Reason Waived: The project was economically designed, comparable in cost to similar projects, and the Sponsor could not contribute any additional funds.

Contact: Willie Spearmon, Director, Office of Housing Assistance and Grant Administration, Department of Housing and Urban Development, 451 Seventh Street, SW, Washington, DC 20410-7000, telephone: (202) 708-3000.

• Regulation: 24 CFR 891.100(d).

Project/Activity: Carbondale Supportive Housing, Inc., Carbondale, Illinois, Project Number: 072-HD101/Il06-Q971-001.

Nature of Requirement: HUD's regulation at 24 CFR 891.100(d) prohibits amendment of the amount of approved capital advance funds prior to initial closing.

Granted By: William C. Apgar, Assistant Secretary for Housing—Federal Housing Commissioner.

Date Granted: October 20, 2000.

Reason Waived: The contractor withdrew from the project causing the Owner to obtain a replacement contractor and seek new bids, the project was comparable in cost to similar projects, and the Sponsor could not contribute any additional funds.

Contact: Willie Spearmon, Director, Office of Housing Assistance and Grant Administration, Department of Housing and Urban Development, 451 Seventh Street, SW, Washington, DC 20410-7000, telephone: (202) 708-3000.

• Regulation: 24 CFR 891.100(d).

Project/Activity: PARC Group Home, Peoria, Illinois, Project Number: 072-HD106/IL06-Q981-001.

Nature of Requirement: HUD's regulation at 24 CFR 891.100(d) prohibits amendment of the amount of approved capital advance funds prior to initial closing.

Granted By: William C. Apgar, Assistant Secretary for Housing—Federal Housing Commissioner.

Date Granted: October 20, 2000.

Reason Waived: A building boom in Illinois caused the Sponsor to have difficulty locating a contractor who would work within the fund reservation allotment, the project was modest in design and consistent with other projects developed in the area.

Contact: Willie Spearmon, Director, Office of Housing Assistance and Grant Administration, Department of Housing and Urban Development, 451 Seventh Street, SW, Washington, DC 20410-7000, telephone: (202) 708-3000.

• Regulation: 24 CFR 891.100(d).

Project/Activity: Geer Village, Canaan Town, CT; Project Number: 017-EE035/CT26-S971-003.

Nature of Requirement: HUD's regulation at 24 CFR 891.100(d) prohibits amendment of the amount of approved capital advance funds prior to initial closing.

Granted By: William C. Apgar, Assistant Secretary for Housing—Federal Housing Commissioner.

Date Granted: November 2, 2000

Reason Waived: A typographical error was made in the original request dated August 29, 2000, which was approved September 26, 2000.

Contact: Willie Spearmon, Director, Office of Housing Assistance and Grant Administration, Department of Housing and Urban Development, 451 Seventh Street, SW, Washington, DC 20410-7000, telephone: (202) 708-3000.

• Regulation: 24 CFR 891.100(d).

Project/Activity: Inglis Gardens at Eastwick II, Philadelphia, Pennsylvania, Project Number: 034-HD054/PA26-Q981-001.

Nature of Requirement: HUD's regulation at 24 CFR 891.100(d) prohibits amendment of the amount of approved capital advance funds prior to initial closing.

Granted By: William C. Apgar, Assistant Secretary for Housing—Federal Housing Commissioner.

Date Granted: November 2, 2000.

Reason Waived: The project was modest in design and the Sponsor/Owner had secured additional funding from outside sources.

Contact: Willie Spearmon, Director, Office of Housing Assistance and Grant Administration, Department of Housing and Urban Development, 451 Seventh Street, SW, Washington, DC 20410-7000, telephone: (202) 708-3000.

• Regulation: 24 CFR 891.100(d).

Project/Activity: Rudolphy/Mercy-Douglass Home for the Blind, Philadelphia, Pennsylvania, Project Number: 034-HD052/PA26-Q971-004.

Nature of Requirement: Prohibition Against Amendment Funds Prior to Initial Closing.

Granted By: William C. Apgar, Assistant Secretary for Housing—Federal Housing Commissioner.

Date Granted: November 2, 2000.

Reason Waived: The project was modest in design, and the Sponsor/Owner had secured additional funding from outside sources.

Contact: Willie Spearmon, Director, Office of Housing Assistance and Grant Administration, Department of Housing and Urban Development, 451 Seventh Street, SW, Washington, DC 20410-7000, telephone: (202) 708-3000.

• Regulation: 24 CFR 891.100(d).

Project/Activity: Shepherd Center, Inc., Decatur, Georgia, Project Number: 061-HD063/GA06-Q981-002.

Nature of Requirement: HUD's regulation at 24 CFR 891.100(d) prohibits amendment of the amount of approved capital advance funds prior to initial closing.

Granted By: William C. Apgar, Assistant Secretary for Housing—Federal Housing Commissioner.

Date Granted: November 2, 2000.

Reason Waived: The project was economically designed, had to physically resemble other structures in the area which had historical significance, and all efforts to lower the cost of the project had been exhausted.

Contact: Willie Spearmon, Director, Office of Housing Assistance and Grant Administration, Department of Housing and Urban Development, 451 Seventh Street, SW, Washington, DC 20410-7000, telephone: (202) 708-3000.

• Regulation: 24 CFR 891.100(d).

Project/Activity: The Palmer House, Wilkes-Barre, Pennsylvania, Project Number: 034-EE091/PA26-S981-012.

Nature of Requirement: HUD's regulation at 24 CFR 891.100(d) prohibits amendment of the amount of approved capital advance funds prior to initial closing.

Granted By: William C. Apgar, Assistant Secretary for Housing—Federal Housing Commissioner.

Date Granted: November 3, 2000.

Reason Waived: The project was modest in design, and the Sponsor/Owner had secured additional funding from outside sources.

Contact: Willie Spearmon, Director, Office of Housing Assistance and Grant Administration, Department of Housing and Urban Development, 451 Seventh Street, SW, Washington, DC 20410-7000, telephone: (202) 708-3000.

• Regulation: 24 CFR 891.100(d).

Project/Activity: West Street Commons, Wilmington, Delaware, Project Number: 032-HD018/DE26-Q961-004.

Nature of Requirement: HUD's regulation at 24 CFR 891.100(d) prohibits amendment of the amount of approved capital advance funds prior to initial closing.

Granted By: William C. Apgar, Assistant Secretary for Housing—Federal Housing Commissioner.

Date Granted: November 3, 2000.

Reason Waived: The project was modest in design, and the Sponsor/Owner had secured additional funding from outside sources.

Contact: Willie Spearmon, Director, Office of Housing Assistance and Grant Administration, Department of Housing and Urban Development, 451 Seventh Street, SW, Washington, DC 20410-7000, telephone: (202) 708-3000.

• Regulation: 24 CFR 891.100(d).

Project/Activity: Bet Shalom II, Worcester, MA; Project Number: 023-EE106/MA06-S981-011.

Nature of Requirement: HUD's regulation at 24 CFR 891.100(d) prohibits amendment of the amount of approved capital advance funds prior to initial closing.

Granted By: William C. Apgar, Assistant Secretary for Housing—Federal Housing Commissioner.

Date Granted: November 14, 2000.

Reason Waived: Labor costs had increased in the area due to a labor shortage, the project was modest in design and consistent with other projects developed in the area.

Contact: Willie Spearmon, Director, Office of Housing Assistance and Grant Administration, Department of Housing and Urban Development, 451 Seventh Street, SW, Washington, DC 20410-7000, telephone: (202) 708-3000.

• Regulation: 24 CFR 891.100(d).

Project/Activity: Friendship Plaza, Lincoln Heights, OH; Project Number: 046-EE047/OH10-S981-003.

Nature of Requirement: HUD's regulation at 24 CFR 891.100(d) prohibits amendment of the amount of approved capital advance funds prior to initial closing.

Granted By: William C. Apgar, Assistant Secretary for Housing—Federal Housing Commissioner.

Date Granted: November 14, 2000.

Reason Waived: The Davis-Bacon Wage Decision significantly increased the basic hourly rates for numerous trade descriptions in the area and the contractor had to reconfigure the construction costs which caused the project to be over budget.

Contact: Willie Spearmon, Director, Office of Housing Assistance and Grant Administration, Department of Housing and Urban Development, 451 Seventh Street, SW, Washington, DC 20410-7000, telephone: (202) 708-3000.

• Regulation: 24 CFR 891.100(d).

Project/Activity: Steamboat Trails, New Richmond, OH; Project Number: 046-EE045/OH10-S981-001.

Nature of Requirement: HUD's regulation at 24 CFR 891.100(d) prohibits amendment of the amount of approved capital advance funds prior to initial closing.

Granted By: William C. Apgar, Assistant Secretary for Housing—Federal Housing Commissioner.

Date Granted: November 14, 2000.

Reason Waived: The Davis-Bacon Wage Decision significantly increased the basic hourly rates for numerous trade descriptions in the area and the contractor had to reconfigure the construction costs which caused the project to be over budget.

Contact: Willie Spearmon, Director, Office of Housing Assistance and Grant Administration, Department of Housing and Urban Development, 451 Seventh Street, SW, Washington, DC 20410-7000, telephone: (202) 708-3000.

• Regulation: 24 CFR 891.100(d).

Project/Activity: Jireh Terrace, Columbus, OH; Project Number: 043-HD036/OH16-Q981-003.

Nature of Requirement: HUD's regulation at 24 CFR 891.100(d) prohibits amendment of the amount of approved capital advance funds prior to initial closing.

Granted By: William C. Apgar, Assistant Secretary for Housing—Federal Housing Commissioner.

Date Granted: November 27, 2000.

Reason Waived: The construction of small group homes were more costly due to economies of scale and costs associated with fully-handicapped facilities, and the project was modest in design and consistent with other projects developed in the area.

Contact: Willie Spearmon, Director, Office of Housing Assistance and Grant Administration, Department of Housing and Urban Development, 451 Seventh Street, SW, Washington, DC 20410-7000, telephone: (202) 708-3000.

• Regulation: 24 CFR 891.100(d).

Project Activity: Jireh Estates, Columbus, OH; Project Number: 043-HD034/OH16-Q981-001.

Nature of Requirement: HUD's regulation at 24 CFR 891.100(d) prohibits amendment of the amount of approved capital advance funds prior to initial closing.

Granted By: William C. Apgar, Assistant Secretary for Housing—Federal Housing Commissioner.

Date Granted: November 30, 2000.

Reason Waived: The construction of small group homes were more costly due to economies of scale and costs associated with fully-handicapped facilities, and the project was modest in design and consistent with other projects developed in the area.

Contact: Willie Spearmon, Director, Office of Housing Assistance and Grant Administration, Department of Housing and Urban Development, 451 Seventh Street, SW, Washington, DC 20410-7000, telephone: (202) 708-3000.

• Regulation: 24 CFR 891.100(d).

Project/Activity: Bud O'Keefe Village, San Antonio, Texas, Project Number: 115-HD031/TX59-Q991-004.

Nature of Requirement: HUD's regulation at 24 CFR 891.100(d) prohibits amendment of the amount of approved capital advance funds prior to initial closing.

Granted By: William C. Apgar, Assistant Secretary for Housing—Federal Housing Commissioner.

Date Granted: December 1, 2000.

Reason Waived: There was a construction boom in the area that caused an increase in demand and, therefore, had driven up the cost of labor and materials.

Contact: Willie Spearmon, Director, Office of Housing Assistance and Grant Administration, Department of Housing and Urban Development, 451 Seventh Street, SW, Washington, DC 20410-7000, telephone: (202) 708-3000.

• Regulation: 24 CFR 891.100(d).

Project/Activity: Behavioral Health Network, Ludlow, Massachusetts, Project Number: 023-HD158/MA06-Q991-006.

Nature of Requirement: HUD's regulation at 24 CFR 891.100(d) prohibits amendment of the amount of approved capital advance funds prior to initial closing.

Granted By: William C. Apgar, Assistant Secretary for Housing—Federal Housing Commissioner.

Date Granted: December 20, 2000.

Reason Waived: Labor and material costs had escalated in Massachusetts, the project was modest in design and consistent with other projects developed in the area.

Contact: Willie Spearmon, Director, Office of Housing Assistance and Grant Administration, Department of Housing and Urban Development, 451 Seventh Street, SW, Washington, DC 20410-7000, telephone: (202) 708-3000.

• Regulation: 24 CFR 891.100(d) and 891.165.

Project/Activity: Alma Rangel Gardens, Manhattan, New York, Project Number: 012-EE232/NY36-S971-019.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: October 20, 2000.

Reason Waived: Delays occurred because the Owner was seeking a general contractor who could build the project within the development cost limits and the extensive environmental and site disposition process required by the City of New York. Also, the project was economically designed, comparable to other projects developed in the jurisdiction, and the Owner exhausted all efforts in seeking funding from other sources.

Contact: Willie Spearmon, Director, Office of Housing Assistance and Grant Administration, Department of Housing and Urban Development, 451 Seventh Street, SW, Washington, DC 20410-7000, telephone: (202) 708-3000.

• Regulation: 24 CFR 891.100(d) and 891.165.

Project/Activity: Highbridge Senior Housing, Bronx, New York, Project Number: 012-EE248/NY36-S981-004.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 22, 2000.

Reason Waived: Delays occurred because the project was being developed on land owned by the City of New York which had to complete the City's extensive environmental and site disposition requirements. Also, the project was economically designed, comparable to other similar projects developed in the jurisdiction, and the Owner exhausted all efforts in seeking funding from other sources.

Contact: Willie Spearmon, Director, Office of Housing Assistance and Grant Administration, Department of Housing and Urban Development, 451 Seventh Street, SW, Washington, DC 20410-7000, telephone: (202) 708-3000.

• Regulation: 24 CFR 891.100(d) and 891.165.

Project/Activity: Bethany/Development Outreach Mt. Morris Plaza, Manhattan, New York, Project Number: 012-EE226/NY36-S971-013.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 14, 2000.

Reason Waived: The project was economically designed, comparable to similar projects developed in the area, and the Owner had exhausted all efforts to obtain additional funds from the Sponsor or other sources. Also, delays occurred while the City of New York completed extensive environmental and site disposition requirements.

Contact: Willie Spearmon, Director, Office of Housing Assistance and Grant Administration, Department of Housing and Urban Development, 451 Seventh Street, SW, Washington, DC 20410-7000, telephone: (202) 708-3000.

• Regulation: 24 CFR 891.100(d) and 891.165.

Project/Activity: Hale Mahaolu Eono, Lahaina, Maui, Hawaii, Project Number: 140-EE014/HI10-S961-002.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 22, 2000.

Reason Waived: A significant portion of the delay related to the HUD review and approval of the Owner's request to combine the subject project with a project financed by Rural Housing Service. Also, the project was economically designed, comparable to other similar projects developed in the area, and the Owner had no other additional funds to cover the shortfall of funds required to close the project.

Contact: Willie Spearmon, Director, Office of Housing Assistance and Grant Administration, Department of Housing and Urban Development, 451 Seventh Street, SW, Washington, DC 20410-7000, telephone: (202) 708-3000.

• Regulation: 24 CFR 891.100(d) and 891.165.

Project/Activity: Genesis House, III, Longmeadow, Massachusetts, Project Number: 023-EE104/MA06-S981-009.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 27, 2000.

Reason Waived: The project was economically designed and comparable to other similar projects developed in the area, and labor and material costs in the area were high. Also, the process of securing outside funding and in obtaining labor and materials at reasonable prices expended valuable time.

Contact: Willie Spearmon, Director, Office of Housing Assistance and Grant Administration, Department of Housing and Urban Development, 451 Seventh Street, SW, Washington, DC 20410-7000, telephone: (202) 708-3000.

• Regulation: 24 CFR 891.130(b).

Project/Activity: Lincoln Park Apartments Annex, Morristown, Tennessee, Project Number: 087-EE039/TN37-S991-002.

Nature of Requirement: HUD's regulation at 24 CFR 891.130(b) prohibits identity of interest between the Sponsor or Owner or Borrower and any development team member or between development team members until two years after final closing.

Granted By: William C. Apgar, Assistant Secretary for Housing—Federal Housing Commissioner.

Date Granted: December 1, 2000.

Reason Waived: A board member of the Owner, Oxford Homes for the Elderly, was also a board member of the seller of the land, Volunteer Housing Development Corporation, but was not receiving a salary from either organization and locating other suitable sites within the area would be difficult.

Contact: Willie Spearmon, Director, Office of Housing Assistance and Grant Administration, Department of Housing and Urban Development, 451 Seventh Street, SW, Washington, DC 20410-7000, telephone: (202) 708-3000.

• Regulation: 24 CFR 891.165.

Project/Activity: Northwest Behavioral Health Services, Inc., Jacksonville, Florida, Project Number: 063-HD013/FL29-Q981-010.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: October 10, 2000.

Reason Waived: The Sponsor had been unable to secure alternative funding sources and the field office had not yet determined if a request for an increase in the capital advance was warranted.

Contact: Willie Spearmon, Director, Office of Housing Assistance and Grant Administration, Department of Housing and Urban Development, 451 Seventh Street, SW, Washington, DC 20410-7000, telephone: (202) 708-3000.

• Regulation: 24 CFR 891.165.

Project/Activity: Victoria Jennings Residences, Chicago, Illinois, Project Number: 071-HD088/IL06-Q961-003.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: October 13, 2000.

Reason Waived: Additional time was required to review closing documents.

Contact: Willie Spearmon, Director, Office of Housing Assistance and Grant Administration, Department of Housing and Urban Development, 451 Seventh Street, SW, Washington, DC 20410-7000, telephone: (202) 708-3000.

• Regulation: 24 CFR 891.165.

Project/Activity: St. Peter's Place II, Phoenixville, PA, Project Number: 34-EE070/PA26-S971-002; Connections Community Support Program, Wilmington, DE, Project Number: 032-HD018/DE26-Q961-004; Freedom House, Royersford, PA, Project Number: 034-HD049/PA26-Q971-001; Rudolph Mercy Douglass, Philadelphia, PA, Project Number: 034-HD052/PA26-Q971-004.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: October 18, 2000.

Reason Waived: St. Peter's Place II delays were due to a working capital issue which was being worked out with the substitute general contractor; Connections Community Support Program delays were due to flaws in the architectural plans that had to be corrected; Freedom House delays were due to the Sponsor seeking outside funding sources to help cover project shortfalls; Rudolph Mercy Douglass delays were due to the Sponsor seeking outside funding sources to help cover project shortfalls.

Contact: Willie Spearmon, Director, Office of Housing Assistance and Grant Administration, Department of Housing and Urban Development, 451 Seventh Street, SW, Washington, DC 20410-7000, telephone: (202) 708-3000.

• Regulation: 24 CFR 891.165.

Project/Activity: La Villa, Milwaukee, Wisconsin, Project Number: 075-EE063/WI39-Q971-007.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 2, 2000.

Reason Waived: The Sponsor needed additional time to work out offsite issues prior to initial closing.

Contact: Willie Spearmon, Director, Office of Housing Assistance and Grant Administration, Department of Housing and Urban Development, 451 Seventh Street, SW, Washington, DC 20410-7000, telephone: (202) 708-3000.

• Regulation: 24 CFR 891.165.

Project/Activity: La Casa Village II Apartments, Waukesha, Wisconsin, Project Number: 075-EE065/WI39-S971-009.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 2, 2000.

Reason Waived: There were deficiencies that the Sponsor and the Sponsor's attorney needed to correct prior to initial closing.

Contact: Willie Spearmon, Director, Office of Housing Assistance and Grant Administration, Department of Housing and Urban Development, 451 Seventh Street, SW, Washington, DC 20410-7000, telephone: (202) 708-3000.

• Regulation: 24 CFR 891.165.

Project/Activity: Red Lion Inn Elder Housing, Randolph, Vermont, Project Number: 024-EE034/VT36-S961-002.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 3, 2000.

Reason Waived: The Sponsor had to review bids from other contractors since the original contractor had raised its prices.

Contact: Willie Spearmon, Director, Office of Housing Assistance and Grant Administration, Department of Housing and Urban Development, 451 Seventh Street, SW, Washington, DC 20410-7000, telephone: (202) 708-3000.

• Regulation: 24 CFR 891.165.

Project/Activity: Ailbe II, Chicago, Illinois, Project Number: 071-EE139/IL06-S971-013.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 3, 2000.

Reason Waived: The City of Chicago had not produced the permits required for Initial Endorsement.

Contact: Willie Spearmon, Director, Office of Housing Assistance and Grant Administration, Department of Housing and Urban Development, 451 Seventh Street, SW, Washington, DC 20410-7000, telephone: (202) 708-3000.

• Regulation: 24 CFR 891.165.

Project/Activity: West Hamlin Unity, Inc., West Hamlin, West Virginia, Project Number: 045-HD026/WV15-Q971-002.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 14, 2000.

Reason Waived: Delays were caused due to issues concerning the site's Right of Way and unacceptable costs on the Form 2328.

Contact: Willie Spearmon, Director, Office of Housing Assistance and Grant Administration, Department of Housing and Urban Development, 451 Seventh Street, SW, Washington, DC 20410-7000, telephone: (202) 708-3000.

• Regulation: 24 CFR 891.165.

Project/Activity: Cornerstone Gardens, Houston, Texas, Project Number: 114-EE070/TX24-S981-009.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 16, 2000.

Reason Waived: The Sponsor was in the process of submitting documentation on the newly selected contractor.

Contact: Willie Spearmon, Director, Office of Housing Assistance and Grant Administration, Department of Housing and Urban Development, 451 Seventh Street, SW, Washington, DC 20410-7000, telephone: (202) 708-3000.

• Regulation: 24 CFR 891.165.

Project/Activity: Jewish Federation Senior Housing, Cherry Hill Township, New Jersey, Project Number: 035-EE036/NJ39-S981-007.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 16, 2000.

Reason Waived: The project was delayed because it was found to have numerous deficiencies which had to be resolved, as well as three different sources of secondary financing had to be reviewed and approved.

Contact: Willie Spearmon, Director, Office of Housing Assistance and Grant Administration, Department of Housing and Urban Development, 451 Seventh Street, SW, Washington, DC 20410-7000, telephone: (202) 708-3000.

• Regulation: 24 CFR 891.165.

Project/Activity: Bet Shalom II, Worcester, MA; Project Number: 023-EE106/MA06-S981-011.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 21, 2000.

Reason Waived: The Firm Commitment processing was delayed pending receipt of additional information from the Sponsor/Owner and the field office had requested additional amendment funds prior to initial closing.

Contact: Willie Spearmon, Director, Office of Housing Assistance and Grant Administration, Department of Housing and Urban Development, 451 Seventh Street, SW, Washington, DC 20410-7000, telephone: (202) 708-3000.

• Regulation: 24 CFR 891.165.

Project/Activity: Elders Place II, Philadelphia, Pennsylvania, Project Number: 034-EE086/PA26-S981-007.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 24, 2000.

Reason Waived: The project was delayed due to a substitution of the General Contractor that was necessary because of an identity of interest conflict.

Contact: Willie Spearmon, Director, Office of Housing Assistance and Grant Administration, Department of Housing and Urban Development, 451 Seventh Street, SW, Washington, DC 20410-7000, telephone: (202) 708-3000.

• Regulation: 24 CFR 891.165.

Project/Activity: Inglis Gardens at Eastwick, Philadelphia, Pennsylvania, Project Number: 034-HD054/PA26-Q981-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 24, 2000.

Reason Waived: The project had been delayed due to the additional time needed to approve the submission of Initial Closing documents together with evidence of Flood Insurance.

Contact: Willie Spearmon, Director, Office of Housing Assistance and Grant Administration, Department of Housing and Urban Development, 451 Seventh Street, SW, Washington, DC 20410-7000, telephone: (202) 708-3000.

• Regulation: 24 CFR 891.165.

Project/Activity: Transitional Learning Community Supportive Housing, Galveston, Texas, Project Number: 114-HD013/TX24-Q971-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 24, 2000.

Reason Waived: Additional time was needed to review the environmental assessment and complete the floodplain process.

Contact: Willie Spearmon, Director, Office of Housing Assistance and Grant Administration, Department of Housing and Urban Development, 451 Seventh Street, SW, Washington, DC 20410-7000, telephone: (202) 708-3000.

• Regulation: 24 CFR 891.165.

Project/Activity: Hazel Dell Apartments, Vancourver, Washington, Project Number: 126-EE027/OR16-S981-002.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 24, 2000.

Reason Waived: The project had been delayed due to legal partitioning required to accommodate an Assisted Living Facility being developed by the project's Sponsor and the Owner had to obtain additional funds from outside sources.

Contact: Willie Spearmon, Director, Office of Housing Assistance and Grant Administration, Department of Housing and Urban Development, 451 Seventh Street, SW, Washington, DC 20410-7000, telephone: (202) 708-3000.

• Regulation: 24 CFR 891.165.

Project/Activity: Highview Unity Apartments, Inc., Charleston, West Virginia, Project Number: 045-EE010/WV15-S971-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 24, 2000.

Reason Waived: Additional time was needed to remove restrictive covenants and a right of reverter from the Deed.

Contact: Willie Spearmon, Director, Office of Housing Assistance and Grant Administration, Department of Housing and Urban Development, 451 Seventh Street, SW, Washington, DC 20410-7000, telephone: (202) 708-3000.

• Regulation: 24 CFR 891.165.

Project/Activity: Quilceda Meadows, Marysville, Washington, Project Number: 127-HD025/WA19-Q981-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 24, 2000.

Reason Waived: The project had been delayed because salmon and trout located in the area were recently listed as endangered species and a Biological Assessment on the project's location and design was requested by Snohomish County.

Contact: Willie Spearmon, Director, Office of Housing Assistance and Grant Administration, Department of Housing and Urban Development, 451 Seventh Street, SW, Washington, DC 20410-7000, telephone: (202) 708-3000.

• Regulation: 24 CFR 891.165.

Project/Activity: Riley Cheeks House, Washington, DC, Project Number: 000-HD030/DC39-Q961-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 24, 2000.

Reason Waived: The original Firm Commitment processing was suspended by the field office while the owner resolved a cash shortfall and the project needed additional time to reach initial closing.

Contact: Willie Spearmon, Director, Office of Housing Assistance and Grant Administration, Department of Housing and Urban Development, 451 Seventh Street, SW, Washington, DC 20410-7000, telephone: (202) 708-3000.

• Regulation: 24 CFR 891.165.

Project/Activity: Pathways, Greenwich, Connecticut, Project Number: 017-HD022/CT26-Q981-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: November 30, 2000.

Reason Waived: The project experienced delays on the local level due to neighborhood opposition and the site approval process by the Planning and Zoning Board.

Contact: Willie Spearmon, Director, Office of Housing Assistance and Grant Administration, Department of Housing and Urban Development, 451 Seventh Street, SW, Washington, DC 20410-7000, telephone: (202) 708-3000.

• Regulation: 24 CFR 891.165.

Project/Activity: Westview Commons, Roseburg, Oregon, Project Number: 126-HD026/OR16-Q981-002.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 1, 2000.

Reason Waived: The project had been delayed because the Owner had to revise plans and specifications and obtain additional funds from outside sources due to site development and construction costs.

Contact: Willie Spearmon, Director, Office of Housing Assistance and Grant Administration, Department of Housing and Urban Development, 451 Seventh Street, SW, Washington, DC 20410-7000, telephone: (202) 708-3000.

• Regulation: 24 CFR 891.165.

Project/Activity: The Palmer House, Wilkes Barre, Pennsylvania, Project Number: 034-EE091/PA26-S981-012.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 11, 2000.

Reason Waived: The project was delayed because the Sponsor had to identify secondary financing and was working to obtain acceptable commitments.

• Regulation: 24 CFR 891.165.

Project/Activity: Peach Tree Acres, Harbeson, Delaware, Project Number: 032-HD021/DE26-Q981-003.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 11, 2000

Reason Waived: The project was delayed because the Firm Application was initially rejected and had been completely re-submitted and the Secondary Financing documents were under review.

Contact: Willie Spearmon, Director, Office of Housing Assistance and Grant Administration, Department of Housing and Urban Development, 451 Seventh Street, SW, Washington, DC 20410-7000, telephone: (202) 708-3000.

• Regulation: 24 CFR 891.165.

Project/Activity: Tolland Elderly Housing, Tolland, Connecticut, Project Number: 017-EE043/CT26-S981-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 11, 2000.

Reason Waived: The project was delayed due to the extensive reviews the Sponsor/Owner was required by the local government to perform prior to obtaining exhibits needed to complete the firm commitment application.

Contact: Willie Spearmon, Director, Office of Housing Assistance and Grant Administration, Department of Housing and Urban Development, 451 Seventh Street, SW, Washington, DC 20410-7000, telephone: (202) 708-3000.

• Regulation: 24 CFR 891.165.

• Regulation: 24 CFR 891.165.

Project/Activity: Unionville Elderly Housing, Unionville, Connecticut, Project Number: 017-EE045/CY26-S981-003.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 11, 2000.

Reason Waived: The project was delayed due to the extensive reviews the Sponsor/Owner was required by the local government to perform prior to obtaining exhibits needed to complete the firm commitment application.

Contact: Willie Spearmon, Director, Office of Housing Assistance and Grant Administration, Department of Housing and Urban Development, 451 Seventh Street, SW, Washington, DC 20410-7000, telephone: (202) 708-3000.

• Regulation: 24 CFR 891.165.

Project/Activity: Woodbury Elderly Housing, Woodbury, Connecticut, Project Number: 017-EE044/CT26-S981-002.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 11, 2000.

Reason Waived: The project delayed due to the extensive reviews the Sponsor/Owner was required by the local government to perform prior to obtaining exhibits needed to complete the firm commitment application.

Contact: Willie Spearmon, Director, Office of Housing Assistance and Grant Administration, Department of Housing and Urban Development, 451 Seventh Street, SW, Washington, DC 20410-7000, telephone: (202) 708-3000.

• Regulation: 24 CFR 891.165.

Project/Activity: Arc HUD IV, New Castle, Delaware, Project Number: 032-HD020/DE26-Q981-002.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 12, 2000.

Reason Waived: Additional time was needed for revised surveys and surveyor reports to be prepared and reviewed.

Contact: Willie Spearmon, Director, Office of Housing Assistance and Grant Administration, Department of Housing and Urban Development, 451 Seventh Street, SW, Washington, DC 20410-7000, telephone: (202) 708-3000.

• Regulation: 24 CFR 891.165.

Project/Activity: Kirkland Union Plaza, Vancouver, Washington, Project Number: 126-EE028/OR16-S981-003.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 12, 2000.

Reason Waived: The project was delayed because the Owner had to obtain additional funds to meet construction shortfalls and additional time was needed for the Owner to address local funding restrictions.

Contact: Willie Spearmon, Director, Office of Housing Assistance and Grant Administration, Department of Housing and Urban Development, 451 Seventh Street, SW, Washington, DC 20410-7000, telephone: (202) 708-3000.

• Regulation: 24 CFR 891.165.

Project/Activity: Waterloo Heights Apartments, Los Angeles, California, Project Number: 122-HD107/CA16-Q971-013.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 14, 2000.

Reason Waived: The Sponsor had difficulty in locating and securing a suitable site for the project and delays occurred in the City of Los Angeles architectural review process.

Contact: Willie Spearmon, Director, Office of Housing Assistance and Grant Administration, Department of Housing and Urban Development, 451 Seventh Street, SW, Washington, DC 20410-7000, telephone: (202) 708-3000.

• Regulation: 24 CFR 891.165.

Project/Activity: Webster Supportive Housing, Harris County, Texas, Project Number: 114-HD012/TX24-Q961-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 12, 2000.

Reason Waived: The Owner had to locate an alternate site and additional time was needed for the updated Previous Participation Certification form HUD-2530 to be reviewed and processed.

Contact: Willie Spearmon, Director, Office of Housing Assistance and Grant Administration, Department of Housing and Urban Development, 451 Seventh Street, SW, Washington, DC 20410-7000, telephone: (202) 708-3000.

• Regulation: 24 CFR 891.165.

Project/Activity: West Seneca Senior Apartments, West Seneca, New York, Project Number: 014-EE171/NY06-S981-005.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 12, 2000.

Reason Waived: Delays were due to a change of sites required because of an unacceptable zoning requirement imposed by the local government and additional time was needed for approval of the new site by the local Planning Board.

Contact: Willie Spearmon, Director, Office of Housing Assistance and Grant Administration, Department of Housing and Urban Development, 451 Seventh Street, SW, Washington, DC 20410-7000, telephone: (202) 708-3000.

• Regulation: 24 CFR 891.165.

Project/Activity: Berlin Housing, Berlin, Wisconsin, Project Number: 075-HD055/WI39-Q981-002.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 19, 2000.

Reason Waived: Additional time was needed by the Sponsor to continue to work with the architect and the general contractor to get the project to work within the capital advance amount.

Contact: Willie Spearmon, Director, Office of Housing Assistance and Grant Administration, Department of Housing and Urban Development, 451 Seventh Street, SW, Washington, DC 20410-7000, telephone: (202) 708-3000.

• Regulation: 24 CFR 891.165.

Project/Activity: Eau Claire Housing for the Physically Disabled, Eau Claire, Wisconsin, Project Number: 075-HD059/WI39-Q981-006.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 20, 2000.

Reason Waived: The Sponsor had to locate an alternate site and the land appraisal was rejected and had to be corrected.

Contact: Willie Spearmon, Director, Office of Housing Assistance and Grant Administration, Department of Housing and Urban Development, 451 Seventh Street, SW, Washington, DC 20410-7000, telephone: (202) 708-3000.

• Regulation: 24 CFR 891.165.

Project/Activity: Gilead III, Oshkosh, Wisconsin, Project Number: 075-HD057/WI39-Q981-004.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 20, 2000.

Reason Waived: Additional time was needed by the Sponsor to continue to work with the architect and the general contractor to get the project to work within the capital advance amount.

Contact: Willie Spearmon, Director, Office of Housing Assistance and Grant Administration, Department of Housing and Urban Development, 451 Seventh Street, SW, Washington, DC 20410-7000, telephone: (202) 708-3000.

• Regulation: 24 CFR 891.165.

Project/Activity: Scriber Pointe Apartments, Lynnwood, Washington, Project Number: 127-EE022/WA19-S981-001.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 20, 2000.

Reason Waived: Additional time was needed for the National Marine Fisheries Service to review the biological assessment of the site due to the finding that the project may affect the critical habitat of the Threatened Puget Sound Chinook Salmon.

Contact: Willie Spearmon, Director, Office of Housing Assistance and Grant Administration, Department of Housing and Urban Development, 451 Seventh Street, SW, Washington, DC 20410-7000, telephone: (202) 708-3000.

• Regulation: 24 CFR 891.165.

Project/Activity: Flury Place, Elkridge, Maryland, Project Number: 052-HD034/MD06-Q981-004.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 27, 2000.

Reason Waived: Additional time was needed for the project's architect to incorporate recommendations to mitigate high noise levels in the project's design and for the owner to submit the firm commitment application.

Contact: Willie Spearmon, Director, Office of Housing Assistance and Grant Administration, Department of Housing and Urban Development, 451 Seventh Street, SW, Washington, DC 20410-7000, telephone: (202) 708-3000.

• Regulation: 24 CFR 891.165.

Project/Activity: H.O.L.I.E. Apartments, West Allis, Wisconsin, Project Number: 075-EE077/WI39-S981-006.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 27, 2000.

Reason Waived: The Sponsor had to locate an alternate site and was in the process of obtaining a special use permit for the current site.

Contact: Willie Spearmon, Director, Office of Housing Assistance and Grant Administration, Department of Housing and Urban Development, 451 Seventh Street, SW, Washington, DC 20410-7000, telephone: (202) 708-3000.

• Regulation: 24 CFR 891.165.

Project/Activity: Stratford Elderly Housing, Stratford, Wisconsin, Project Number: 075-EE079/WI39-S981-008.

Nature of Requirement: HUD's regulation at 24 CFR 891.165 provides that the duration of the fund reservations for the capital advance is 18 months from the date of issuance with limited exceptions up to 24 months, as approved by HUD on a case-by-case basis.

Granted By: William C. Apgar, Assistant Secretary for Housing—Federal Housing Commissioner.

Date Granted: December 27, 2000.

Reason Waived: The Sponsor was in the process of obtaining construction bids and preparing the application for Firm Commitment.

Contact: Willie Spearmon, Director, Office of Housing Assistance and Grant Administration, Department of Housing and Urban Development, 451 Seventh Street, SW, Washington, DC 20410-7000, telephone: (202) 708-3000.

• Regulation: 24 CFR 891.310(b)(1).

Project/Activity: Rockland ARC Project Independence, New City, NY; Project Number: 012-HD082/NY36-Q981-003.

Nature of Requirement: HUD's regulation at 24 CFR 891.310(b)(1) requires that all entrances, common areas, units to be occupied by resident staff, and amenities must be readily accessible to and usable by persons with disabilities.

Granted By: William C. Apgar, Assistant Secretary for Housing—Federal Housing Commissioner.

Date Granted: December 1, 2000.

Reason Waived: To make all units fully accessible for persons with mobility impairments would make the project, as a whole, financially infeasible. One of the three group homes will be accessible which will make the project in compliance with section 504 of the Rehabilitation Act of 1973.

Contact: Willie Spearmon, Director, Office of Housing Assistance and Grant Administration, Department of Housing and Urban Development, 451 Seventh Street, SW, Washington, DC 20410-7000, telephone: (202) 708-3000.

• Regulation: 24 CFR 891.410(c).

Project/Activity: Palouse Cove Apartments, Palouse, Washington, Project Number: 171-EE010. The Northwest/Alaska Multifamily Hub requested waiver of this regulation due to the project's initial rent-up starting in December 1998 achieving only 55 percent occupancy to date.

Nature of Requirement: HUD's regulation at 24 CFR 891.410(c) limits occupancy to very low-income (VLI) elderly persons, (i.e., households of one or more persons at least one of whom is 62 years of age at the time of initial occupancy).

Granted By: William C. Apgar, Assistant Secretary for Housing—Federal Housing Commissioner.

Date Granted: October 24, 2000.

Reason Waived: The Assistant Secretary approved an income waiver for this project due to the remote location of the project, which has caused vacancy problems and has resulted in an accumulation of unpaid expenses. This waiver will allow elderly and near elderly families who are at or over age 55 and low income to apply for admission, thereby attempting to improve occupancy rates. This waiver is effective for one year from the date of approval.

Contact: Richard Harrington, Field Asset Management Division, U.S. Department of Housing and Urban Development, 451 Seventh Street, SW, Room 6178, Washington, DC 20410-3600; telephone (202) 708-3730, ext. 2465.

• Regulation: 24 CFR 891.410(c).

Project/Activity: Lincoln Unity Apartments, West Hamlin, West Virginia, Project Number: 045-EE098. The Charleston Multifamily Program Center has requested an age and income waiver in an attempt to rent up vacant units at this project.

Nature of Requirement: HUD's regulation at 24 CFR 891.410(c) limits occupancy to very low-income (VLI) elderly persons, (i.e., households of one or more persons at least one of whom is 62 years of age at the time of initial occupancy).

Granted By: William C. Apgar, Assistant Secretary for Housing—Federal Housing Commissioner.

Date Granted: November 3, 2000.

Reason Waived: The Assistant Secretary for Housing granted waiver of this regulation for good cause, to allow additional flexibility in attempting to rent up vacant units. The waiver is in effect for one year from the date of the waiver granted.

Contact: Ronald Wallace, Field Asset Management Division, U.S. Department of Housing and Urban Development, 451 Seventh Street SW, Room 6176, Washington, DC 20410-3600; telephone: (202) 708-3730, ext. 2590.

• Regulation: 24 CFR 891.410(c).

Project/Activity: Romney Unity Apartments, Romney, West Virginia, Project Number: 045-EH095. The Charleston Multifamily Program Center has requested an income waiver for the project due to vacancy problems.

Nature of Requirement: HUD's regulation at 24 CFR 891.410(c) limits occupancy to very low-income (VLI) elderly persons, (i.e., households of one or more persons at least one of whom is 62 years of age at the time of initial occupancy).

Granted By: William C. Apgar, Assistant Secretary for Housing—Federal Housing Commissioner.

Date Granted: November 3, 2000.

Reason Waived: The Assistant Secretary granted waiver of this restriction because the market in the area continues to be soft and the potential for renting to low income persons appears to be good. Therefore, waiver of this regulation will allow the leasing of units to low income households and avert future vacancy problems.

Contact: Ronald Wallace, Field Asset Management Division, U.S. Department of Housing and Urban Development, 451 Seventh Street SW, Room 6176, Washington, DC 20410-3600; telephone: (202) 708-3730, ext. 2590.

• Regulation: 24 CFR 891.410(c).

Project/Activity: 1490 Estates Apartments, Buffalo, New York, Project Number: 014-EE111. The Buffalo Multifamily Hub has requested an age waiver for the project due to vacancy problems.

Nature of Requirement: HUD's regulation at 24 CFR 891.410(c) limits occupancy to very low-income (VLI) elderly persons, (i.e., households of one or more persons at least one of whom is 62 years of age at the time of initial occupancy).

Granted By: William C. Apgar, Assistant Secretary for Housing—Federal Housing Commissioner

Date Granted: November 14, 2000.

Reason Waived: The Assistant Secretary for Housing waived the subject regulation in order to allow management flexibility to rent up vacant units and attempt to sustain occupancy at the project.

Contact: Ronald Wallace, Field Asset Management Division, U.S. Department of Housing and Urban Development, 451 Seventh Street SW, Room 6176, Washington, DC 20410-3600; telephone: (202) 708-3730, ext. 2590.

• Regulation: 24 CFR 891.575.

Project/Activity: Seton Kenton, Kenton, Ohio, Project Number: 043-EH075. The Columbus Multifamily Program Center has requested waiver of the age requirements for occupancy due to severe vacancy problems.

Nature of Requirement: HUD regulations in 24 CFR 891.575 limit occupancy to very low-income (VLI) elderly persons (i.e., households composed of one or more persons at least one of whom is 62 years of age at time of initial occupancy).

Granted By: William C. Apgar, Assistant Secretary for Housing—Federal Housing Commissioner.

Date Granted: October 25, 2000.

Reason Waived: The Assistant Secretary has granted an age waiver for the subject project in order to alleviate the continuing vacancy problem. This would allow marketing to persons age 55 to 62 to assist in renting up vacant units.

Contact: Richard Harrington, Field Asset Management Division, U.S. Department of Housing and Urban Development, 451 Seventh Street, SW, Room 6178, Washington, DC 20410-3600; telephone (2020 708-3730, ext. 2465.

• Regulation: 24 CFR 891.575.

Project/Activity: Evergreen Apartments, Shell Lake/Chetek/Rhinelander/Siren, Wisconsin, Project Number: 075-EH072-NP/WPH/L8 and Acorn Apartments, Wisconsin Rapids/Crandon/Minong, Wisconsin, Project Number: 075-EH101-NP/WAH/WDD/L8. Age waivers are requested for the subject projects due to a continuing soft housing market in the scattered site areas, despite marketing efforts of the owners.

Nature of Requirement: HUD regulations in 24 CFR 891.575 limit occupancy to very low-income (VLI) elderly persons (i.e., households composed of one or more persons at least one of whom is 62 years of age at time of initial occupancy).

Granted By: William C. Apgar, Assistant Secretary for Housing—Federal Housing Commissioner.

Date Granted: November 3, 2000.

Reason Waived: The Assistant Secretary for Housing has granted age waivers for the subject projects in order to fill long standing vacancies. Project management may market vacant units to persons between the ages of 55 and 62, thereby attempting to rent up the vacant units and sustain project viability.

Contact: Marc A. Harris, Director, Field Asset Management Division, U.S. Department of Housing and Urban Development, 451 Seventh Street SW, Room 6164, Washington, DC 20410-3600; telephone: (202) 708-3730, ext. 2680.

• Regulation: 24 CFR 891.575.

Project/Activity: Menominee Reservation (Scattered Sites), Keshena/South Branch, Zoar, Wisconsin, Project Number: 075-EH037-NP/WAH/L8. The Minneapolis Multifamily Hub requested an age waiver for this project due to continuing vacancy problems.

Nature of Requirement: HUD regulations in 24 CFR 891.575 limit occupancy to very low-income (VLI) elderly persons (i.e., households composed of one or more persons at least one of whom is 62 years of age at time of initial occupancy).

Granted By: William C. Apgar, Assistant Secretary for Housing—Federal Housing Commissioner.

Date Granted: November 3, 2000.

Reason Waived: The Assistant Secretary granted waiver of this regulation in order to allow the project to rent up vacant units. Allowing occupancy by persons between the ages of 55 and 62 will assist in alleviating the continuing vacancy problems which exist.

Contact: Marc A. Harris, Director, Field Asset Management Division, U.S. Department of Housing and Urban Development, 451 Seventh Street SW, Room 6164, Washington, DC 20410-3600; telephone: (202) 708-3730, ext. 2680.

• Regulation: 24 CFR 891.575.

Project/Activity: Phoenix Villa Apartments, Superior and Lake Nebagamon, Wisconsin, Project Number: 075-EH012-NP/WAH.L8. The Minneapolis Multifamily Hub has requested waiver of the age requirement for occupancy in this project due to an overbuilt market and competition with Rural Housing Services and State Agency-financed projects.

Nature of Requirement: HUD regulations in 24 CFR 891.575 limit occupancy to very low-income (VLI) elderly persons (i.e., households composed of one or more persons at least one of whom is 62 years of age at time of initial occupancy).

Granted By: William C. Apgar, Assistant Secretary for Housing—Federal Housing Commissioner

Date Granted: December 18, 2000.

Reason Waived: The Assistant Secretary has granted a waiver of the age requirement for this project due to a severe vacancy problem. By marketing units to the near elderly, this will allow project management flexibility in renting up vacant units and perhaps start a waiting list for this project.

Contact: Marc A. Harris, Director, Field Asset Management Division, U.S. Department of Housing and Urban Development, 451 Seventh Street SW, Room 6164, Washington, DC 20410-3600; telephone: (202) 708-3730, ext. 2680.

• Regulation: 24 CFR 891.575 and 891.610(c).

Project/Activity: Clinton Manor Apartments, Clinton, New York, Project Number: 013-EH010/NY02-2190-201. The Buffalo Multifamily Hub has requested an age waiver for the subject project due to a soft housing market.

Nature of Requirement: HUD regulations in 24 CFR 891.575 and 891.610(c) limit occupancy to very low-income (VLI) elderly persons (i.e., households composed of one or more persons at least one of whom is 62 years of age at time of initial occupancy).

Granted By: William C. Apgar, Assistant Secretary for Housing—Federal Housing Commissioner.

Date Granted: October 10, 2000.

Reason Waived: The Assistant Secretary granted this waiver based on the area's soft housing market resulting in difficulty in renting up vacant units. This waiver will allow project management to rent up vacant units by allowing additional flexibility in marketing vacant units.

Contact: Ronald Wallace, Field Asset Management Division, U.S. Department of Housing and Urban Development, 451 Seventh Street SW, Room 6176, Washington, DC 20410-3600; telephone: (202) 708-3730, ext. 2590.

• Regulation: 24 CFR 891.575 and 891.610(c).

Project/Activity: Alfred Lutheran Housing, Alfred, New York, Project Number: 014-EH182. The Buffalo Multifamily Hub has requested waiver of this regulation due to the soft housing market in the area.

Nature of Requirement: HUD regulations in 24 CFR 891.575 and 891.610(c) limit occupancy to very low-income (VLI) elderly persons (i.e., households composed of one or more persons at least one of whom is 62 years of age at time of initial occupancy).

Granted By: William C. Apgar, Assistant Secretary for Housing—Federal Housing Commissioner.

Date Granted: October 13, 2000.

Reason Waived: The Assistant Secretary granted this waiver based on the constant vacancy problems this project is experiencing. This will allow the project additional flexibility in attempting to rent up vacant units.

Contact: Ronald Wallace, Field Asset Management Division, U.S. Department of Housing and Urban Development, 451 Seventh Street SW, Room 6176, Washington, DC 20410-3600; telephone: (202) 708-3730, ext. 2590.

• Regulation: 24 CFR 891.575 and 891.610(c).

Project/Activity: St. Mark's Terrace—Dundee Apartments, Dundee, New York, Project Number: 014-EE011/NY06S911011. The Buffalo Multifamily Hub has requested an income waiver for the project due to the soft housing market in the area.

Nature of Requirement: HUD regulations in 24 CFR 891.575 and 891.610(c) limit occupancy to very low-income (VLI) elderly persons (i.e., households composed of one or more persons at least one of whom is 62 years of age at time of initial occupancy).

Granted By: William C. Apgar, Assistant Secretary for Housing—Federal Housing Commissioner.

Date Granted: October 13, 2000.

Reason Waived: The Assistant Secretary for Housing has found good cause to waive this regulation due to the soft market for very low income families. This waiver is granted to attempt to rent up vacant units by allowing low income families access for a period of one year.

Contact: Ronald Wallace, Field Asset Management Division, U.S. Department of Housing and Urban Development, 451 Seventh Street SW, Room 6176, Washington, DC 20410-3600; telephone: (202) 708-3730, ext. 2590.

• Regulation: 24 CFR 891.575 and 891.610(c).

Project/Activity: Oak Hills Senior Housing, Green Forest, Arkansas, Project Number: 082-EE73. The Little Rock Multifamily Program Center requested an income and age waiver for the subject project to alleviate vacancy problems.

Nature of Requirement: HUD regulations in 24 CFR 891.575 and 891.610(c) limit occupancy to very low-income (VLI) elderly persons (i.e., households composed of one or more persons at least one of whom is 62 years of age at time of initial occupancy).

Granted By: William C. Apgar, Assistant Secretary for Housing—Federal Housing Commissioner.

Date Granted: October 24, 2000.

Reason Waived: The Assistant Secretary granted this waiver based on management's inability to rent up its vacant units. An age waiver has been granted to allow flexibility in marketing the vacant units to low income elderly and start a waiting list for the project.

Contact: Cindy Bridges, Field Asset Management Division, U.S. Department of Housing and Urban Development, 451 Seventh Street SW., Washington, DC 20410-3600; telephone: (202) 708-3730, ext. 2603.

IV. Regulatory Waivers Granted by the Office of Multifamily Housing Assistance Restructuring (OMHAR)

For further information about the following waiver actions, please see the name of the contact person which immediately follows the description of the waiver granted.

• Regulations: 24 CFR 401.600.

Project/Activity: The following projects requested waivers to the 12-month limit at above-market rents (24 CFR 401.600):

FHA No. | Project name | State
12738023 | 1400 Market Street Apts | WA
08444156 | Bainbridge Apts | MO
01744158 | Barbour Kensington | CT
01435024 | Cambridge Square | NY
05435003 | Cherry Hill Apartments | SC
07435079 | College Square Manor | IA
08444043 | Elmwood Estates | MO
04335149 | Frankfort Village | OH
04635442 | Greenfield Meadows | OH
06344003 | Harold House Apts | FL
05435412 | Highland Square II Apartments | SC
03344041 | Homewood North | PA
02335147 | Judson House | MA
03335199 | Leo Meyer Manor | PA
01744154 | Lower Garden Street Apartments | CT
01744155 | Main & Nelson | CT
01744156 | Main & Pavillion | CT
01744157 | Mansfield & Edgewood | CT
02344191 | Olde English Village | MA
01335058 | O'Neil Apartments | NY
02344186 | Orange Apts | MA
02344016 | Patton Apts | MA
01435023 | Piotr Stadnitski Gardens | NY
02344131 | Pond View | MA
08435152 | Poplar Court | KS
08735074 | Rockwood Village | TN
12635142 | Royal Loto | OR
02335141 | Tannery II | MA
08544022 | Taven Apartments | MO
02355173 | The Dorchester | MA
10292005 | Valley View Apartments | KS
10235090 | Walnut Towers | KS
08544012 | Wynwood Apts | MO

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: September 30, 1999.

Reasons Waived: The attached list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
05144239 | Huntersville Village Apts | VA
05144024 | Midlothian Village | VA
05135070 | Pleasant Park I Apts | VA
05135099 | Pleasant Park II Apts | VA

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: October 31, 1999.

Reasons Waived: The above list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
12244547 | Agua Terrace Apartments | CA
12435019 | Bannock Arms Apartments | ID
13638026 | Bidwell Oaks | CA
01711049 | Brewery Square | CT
02444042 | Brookside Park | NH
06135199 | Calhoun Garden Apts | GA
04635447 | Chaucer Square | OH
08335192 | Crescent Hill Manor | KY
08335215 | Cross Creek Apartments | KY
01257036 | Daly III | NY
03355002 | East Hills Park | PA
06135203 | Eastman Gardens Apts | GA
04235214 | Eco Village | OH
11744036 | Elmwood Manor Apts | OK
12235370 | Eucalyptus Park | CA
03438021 | F. B. Rooney Building | PA
03344019 | Greenway Park Coop | PA
03135120 | Grove House Apts | NJ
09335069 | Guadelupe Gardens | MT
05235332 | Kensett House | MD
08435139 | Kenton Place | MO
12435022 | Kirkwood Meadows | ID
06335118 | Leland Apartments | FL
08435245 | Manchester Heights aka Ashley Park Apts. | MO
06344054 | Market Street Apartments | FL
03455004 | Marshall Square Apartments | PA
07435114 | McCord Manor | IA
11835054 | Meadowbrook Park | OK
08238009 | Mid-Town Apts | AR
06335093 | Moncrief Village | FL
03344038 | Mountainview Apartments | PA
04335135 | Mt. Vernon Plaza I | OH
12235393 | New Hampshire Arms | CA
12258505 | New Venice 1C (#2) | CA
12258519 | New Venice 4C | CA
06344045 | Oak Street Apartments | FL
06135232 | Oconee Park | GA
09235299 | Park Place Apartments | MN
10235078 | Pickwick Place Assoc | KS
03344099 | Pin Oak Village | PA
04238017 | Pinewood Place | OH
07335252 | Presidential Estates II | IN
04635437 | Riverview Apartments | OH
11744087 | Rockwell Villa | OK
14335023 | Rosswood Villa | CA
07435103 | Royal Oak II | IA
05235401 | Royal Oaks Apartments | MD
12244545 | Royal Palms Apartments | CA
01257035 | Sebco III | NY
07435097 | Shamrock Heights Apts | IA
03438022 | Shirley Futch Plaza | PA
06335087 | Southside Apartments | FL
06535239 | Springlane Apartments | MS
01255037 | St. Nicholas Gardens | NY
06135196 | Stateboro Summit | GA
04635485 | Sunrise Apartments | OH
06244004 | Talladega College Hills Apartments | AL
13635536 | Tehama Village Apartments | CA
06135228 | The Cliffs | GA
06744065 | The Palms | FL
06335098 | University Plaza | FL
12235397 | Valencia Villa Apartments | CA
12938012 | Valley Apartments #1 | CA
12935068 | Valley Apartments #2 | CA
13635513 | Village East Apts | CA
01257007 | W 135th St. | NY
06335092 | Weber 5A Apartments | FL
06335225 | Weber 5B Apartments | FL
11735127 | Western Village Apts | OK
03355018 | Westgate Village I | PA
03344093 | Westview Terrace | PA
08335188 | Westwood Apartments | KY
12235367 | Willowbrook Villa Apartments | CA
03455003 | Zion Garden Apartments | PA

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: December 3, 1999.

Reasons Waived: The above list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
05235042 | Beaufort Crest | MD
05235029 | Bentalou Court | MD
08455051 | Benton Villa Apartments | MO
06535214 | Bonhomie Apartments | MS
06535003 | Cedarhurst Homes | MS
05244071 | Clay Courts | MD
11435275 | Coolwood Oaks I Apartments | TX
06535022 | Deer Creek School Apartments | MS
06535219 | Eastbrooke Apartments | MS
06533001 | Fredella Village | MS
03335079 | Gallatin Apartments | PA
05235050 | Garrison Apartments | MD
17144048 | Grand Coulee Apartments | WA
03344018 | Greenway Park Apartments | PA
03344083 | Hill Com I | PA
03344166 | Hill Com II | PA
04335160 | Kenton Village | OH
05244094 | Lester Morton Court | MD
08444147 | Linda Vista Apartments | MO
05235057 | Pall Mall Apartments | MD
08144026 | Parkview Manor Apartments | TN
05235061 | Pimlico Road Apartments | MD
06535185 | Pride Garden Apartments | MS
11744045 | Rolling Meadows | OK
05212006 | Stafford Towers Apartments | MD
05255036 | Stuart Hills Apartments | MD
08455027 | Terrace View I Apartments | MO
08444042 | Terrace View II Apts | MO
04335034 | Tubman Towers | OH
11435223 | Villa Main Apts | TX
04644134 | Village South Apartments | OH
06535221 | Wood Village Apartments | MS
05235126 | Woodland Apts. III | MD
08735029 | Woodlawn II Apartments | TN

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: October 3, 2000.

Reasons Waived: The above list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
17635019 | Ayalpik Apartments | AK
03335067 | College View Towers | PA
04335195 | Encore | OH
07535219 | La Casa Evangelica Apartments | WI
04335201 | Lawrence Village | OH
12235291 | Monterey Arms | CA
03335066 | Orange Village Apartments | PA
04335123 | Rehab Unlimited 74 | OH
01744107 | Upper Garden Apartments | CT

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: October 18, 2000.

Reasons Waived: The above list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
02332034 | Bershiretown Associates | MA
01257030 | Bryant Arms Apartments | NY
01635016 | David Apartments | RI
01635018 | Mercedes II | RI
01635023 | Mercedes IV | RI
01335055 | Monument Sq. Apts | NY
13338004 | Parkview Place | TX
08635108 | Pulaski Terrace Apartments II | TN
12635143 | Wallowa Alpine Village | OR
12444028 | West Alameda Apartments | OR
01257066 | West Farms Estates | NY

Granted By: Ira Peppercorn, Director of OMHAR.

Date Granted: November 3, 2000.

Reasons Waived: The above list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
01744158 | Barbour Kensington Apartments | CT
09235321 | Freeborn Manor | MN
07314001 | Harborside Apartments | IN
07135284 | Hyde Park Apartments | IL
08135090 | Layton Meadows Apartments | TN
01744154 | Lower Garden Street Apartments | CT
01744154 | Main & Nelson | CT
01744156 | Main & Pavillion | CT
01744157 | Mansfield, Edgewood & Vine | CT
08135088 | Pine Grove Apartments | TN
01735109 | Pond View Apartments | CT
08635108 | Pulaski Terrace Apartments II | TN
06235252 | River Hill Estates | AL
04235040 | South Park Apartments | OH

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: November 20, 2000.

Reasons Waived: The above list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulations: 24 CFR 401.600.

Project/Activity: The following projects requested waivers to the 12-month limit at above-market rents (24 CFR 401.600):

FHA No. | Project name | State
11744036 | Elmwood Manor Apts | OK
12735291 | Heritage Apartments | WA
04635227 | New Light III | OH
03335059 | Quemahoning Towers | PA

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: December 13, 2000.

Reasons Waived: The above list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

V. Regulatory Waivers Granted by the Office of Public and Indian Housing

For further information about the following waiver actions, please see the name of the contact person which immediately follows the description of the waiver granted.

• Regulation: 24 CFR 761.30(B).

Project/Activity: Waiver of 24 CFR 761.30(b) was requested to extend the PHDEP 1997 grant for the San Francisco Housing Authority, CA 01 DEP 001 0198, San Francisco, California.

Nature of Requirement: HUD's regulation at 24 CFR 761.30(b) provides that terms of the grant agreement may not exceed 12 months for the Assisted Housing Program, and 24 months for the Public Housing Program, unless an extension is approved by the local HUD Office or local HUD Office of Native American Programs. This section also provides that the maximum extension that may be approved by the local offices is 6 months.

Granted By: Harold Lucas, Assistant Secretary for Public and Indian Housing.

Date Granted: August 4, 2000.

Reason Waived: The SFHA has indicated that their inability to execute a Service Agreement was hindered by local politics and the fact that the San Francisco Police Department (SFPD) is under contract for above base-line services through PHDEP funds. As a result the SFHA utilizes a pool of private security contractors who are governed by State Law in lieu of individual Policy Manuals, which is unique to California. The SFHA is requesting a continuation of the previous waivers for the Fiscal Years 1997 and 1998 as the existing Policy Manual is still in effect for the Fiscal Year 1999 PHDEP grant.

Contact: Sonia L. Burgos, Director, Community Safety and Conservation Division, Department of Housing and Urban Development, 451 Seventh Street, SW., Rm. 4206, Washington, DC 20410-5000, telephone (202) 708-1197.

• Regulation: 24 CFR 902.5(b)(2).

Project/Activity: Princeville Housing Authority, Princeville, NC.

Nature of Requirement: The regulation requires the public housing agency to submit data for evaluation by HUD, Public Housing Assessment System (PHAS), after which a score is issued rating the agencies performance during the prior year.

Granted By: Harold Lucas, Assistant Secretary, Office of Public and Indian Housing.

Date Granted: December 20, 2000.

Reason Waived: Approval of waiver permitted the PHA not to be assessed by the Public Housing Assessment System (PHAS) score for Fiscal Year 2000. All PHA housing stock and agency records were destroyed by Hurricane Floyd. The limited financial data would not be suitable for scoring and all units were demolished and tenants relocated.

Contact: Judy Wojciechowski, Director of PHAS Operations, Office of Troubled Agency Recovery, Office of Public and Indian Housing, Department of Housing and Urban Development, 451 Seventh Street, S.W., Washington, D.C. 20410, (202) 708-4932, x 3464.

• Regulation: 24 CFR 954.500(c).

Project/Activity: Partial financing to purchase 37 housing units under the Indian HOME Program, Absentee Shawnee Tribe of Oklahoma.

Nature of Requirement: HUD's regulation at § 954.500(c) directs HUD to recapture HOME funds that are not expended within 5 years after the last day of the month in which it obligated the funds.

Granted By: Harold Lucas, Assistant Secretary for Public and Indian Housing.

Date Granted: December 5, 2000.

Reason Waived: The Absentee Shawnee Tribe of Oklahoma believed that with the advent of the new Native American Housing Assistance and Self-Determination Act of 1996 (NAHASDA) their HOME grant funds would be considered NAHASDA funds under Title II Section 210 of that act. It was not until the publication of the Transition Notice on January 27, 1998, were tribes informed that HOME grants were to continue to be administered by the statutes authorizing this program. In addition, the Tribe also experienced difficulties in constructing two modular homes on trust property in Oklahoma.

Contact: Bruce Knott, Director, Office of Grants Evaluation, Office of Native American Programs, Office of Public and Indian Housing, Department of Housing and Urban Development, 1999 Broadway, Suite 3390, Box 90 Denver, CO 80202, (303) 675-1600.

• Regulation: 24 CFR 954.500(c).

Project/Activity: Construction of 11 homes with Indian HOME Program funds, Pascua Yaqui Tribe, Tucson, AZ.

Nature of Requirement: HUD's regulation at § 954.500(c) directs HUD to recapture HOME funds that are not expended within 5 years after the last day of the month in which it obligated the funds.

Granted By: Harold Lucas, Assistant Secretary for Public and Indian Housing.

Date Granted: November 27, 2000.

Reason Waived: The waiver was granted for the following reasons: a significant amount of key administrative staff turnover; termination of a contract with the original architectural firm; difficulty in obtaining clear title to city-surplus, non-trust properties where the homes are to be located; and a need to have the construction plans and zoning variances approved by various municipalities in which the constructed homes will be located.

Contact: Bruce Knott, Director, Office of Grants Evaluation, Office of Native American Programs, Office of Public and Indian Housing, Department of Housing and Urban Development, 1999 Broadway, Suite 3390, Box 90 Denver, CO 80202, (303) 675-1600.

• Regulation: 24 CFR 982.503(a)(3), (c)(1), and (c)(4).

Project/Activity: Bridgeport Housing Authority (BHA) and the Connecticut, Department of Social Services (CDSS), CT, housing choice voucher program. A request was made for a waiver of the payment standard schedule regulations regarding the approval and use of exception payment standard amounts to allow the BHA and CDSS to establish exception payment standard amounts for 189 families displaced from Pequonnock Apartments and a separate payment standard amount for all other housing choice voucher participants. Pequonnock Apartments is a two-building high-rise public housing complex that is being transferred to the City for development.

Nature of Requirement: The regulation provides that a public housing agency (PHA) must establish a single payment standard amount for each unit size. Further, when HUD approves an exception payment standard amount, a PHA with jurisdiction in the exception area may use the HUD-approved exception payment standard amount. In addition, the regulation requires approval of 120 percent payment standard amounts for six months before the approval of higher payment standard amounts.

Granted By: Harold Lucas, Assistant Secretary for Public and Indian Housing.

Date Granted: November 6, 2000.

Reason Waived: Approval of the waivers will permit 189 public housing residents affected by the disposition of Pequonnock Apartments to relocate with housing choice voucher program assistance in low poverty areas both within the City of Bridgeport and in surrounding communities in which utilization of housing choice vouchers has historically been limited.

Contact: Gerald Benoit, Director, Real Estate and Housing Performance Division, Office of Public and Assisted Housing Delivery, Office of Public and Indian Housing, Department of Housing and Urban Development, 451 Seventh Street, S.W., Room 4210, Washington, D.C. 20410, (202) 708-0477.

• Regulation: 24 CFR 983.151(b).

Project/Activity: City of Fulton, New York, project-based certificate program.

Nature of Requirement: The regulation provides that the initial housing assistance payments (HAP) contract term may not be less than one year.

Granted By: Harold Lucas, Assistant Secretary for Public and Indian Housing.

Date Granted: December 18, 2000.

Reason Waived: Approval of the waiver permitted the City of Fulton to proceed with its plans to undertake a 12-unit PBC project for the elderly and to enable the City to enter into a HAP contract with an initial term for less than one year.

Contact: Gerald Benoit, Director, Real Estate and Housing Performance Division, Office of Public and Assisted Housing Delivery, Office of Public and Indian Housing, Department of Housing and Urban Development, 451 Seventh Street, S.W., Room 4210, Washington, D.C. 20410, (202) 708-0477.

• Regulation: 24 CFR 984.303(b)(2).

Project/Activity: Housing Authority of the City of Alameda, California; Family Self-Sufficiency (FSS) Program.

Nature of Requirement: PHAs are required to establish an interim goal for each FSS family that is receiving welfare. The required interim goal is for the family to remain independent from welfare assistance for at least one year before expiration of the term of the family's FSS program contract of participation.

Granted By: Harold Lucas, Assistant Secretary for Public and Indian Housing.

Date Granted: November 28, 2000.

Reason Waived: The FSS program participant had completed all other FSS program goals, and was unable to remain in the FSS program for a full year after her independence from welfare assistance because of a documented family emergency that required her to end her participation in the Section 8 program of the PHA.

Contact: Patricia Arnaudo, Senior Program Manager, Office of Public and Assisted Housing Delivery, Department of Housing and Urban Development, 451 Seventh Street, SW, Room 4224, Washington DC, 20410; telephone (202) 708-0744.

• Regulation: 24 CFR 990.107(f) and 990.109.

Project/Activity: Portsmouth Metropolitan Housing Authority, OH. A request was made to permit the Authority to benefit from energy performance contracting for developments which have tenant-paid utilities. The HA estimates that it could increase savings substantially if it were able to undertake energy performance contracting for both PHA-paid and tenant-paid utilities.

Nature of Requirement: Under 24 CFR 990, the Performance Funding System (PFS) energy conservation incentive, that relates to energy performance contracting, currently applies to only PHA-paid utilities. The Portsmouth Metropolitan Housing Authority has both PHA-paid and tenant-paid utilities.

Granted By: Harold Lucas, Assistant Secretary for Public and Indian Housing.

Date Granted: October 6, 2000.

Reason Waived: In September 1996, the Oakland Housing Authority was granted a waiver to permit the Authority to benefit from energy performance contracting for developments with tenant-paid utilities. The waiver was granted on the basis that the Authority presented a sound and reasonable methodology for doing so. The Portsmouth Metropolitan Housing Authority requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

Contact: Regina McGill, Director, Funding and Financial Management Division, Office of Public and Assisted Housing Delivery, Office of Public and Indian Housing, Department of Housing and Urban Development, 451 Seventh Street, S.W.—Room 4216, Washington, D.C. 20410, (202) 708-1872.

• Regulation: 24 CFR 990.107(f) and 990.109.

Project/Activity: Cincinnati Metropolitan Housing Authority, OH. A request was made to permit the Authority to benefit from energy performance contracting for developments which have tenant-paid utilities. The HA estimates that it could increase savings substantially if it were able to undertake energy performance contracting for both PHA-paid and tenant-paid utilities.

Nature of Requirement: Under 24 CFR 990, the Performance Funding System (PFS) energy conservation incentive, that relates to energy performance contracting, currently applies to only PHA-paid utilities. The Cincinnati Metropolitan Housing Authority has both PHA-paid and tenant-paid utilities.

Granted By: Harold Lucas, Assistant Secretary for Public and Indian Housing.

Date Granted: December 7, 2000.

Reason Waived: In September 1996, the Oakland Housing Authority was granted a waiver to permit the Authority to benefit from energy performance contracting for developments with tenant-paid utilities. The waiver was granted on the basis that the Authority presented a sound and reasonable methodology for doing so. The Cincinnati Metropolitan Housing Authority requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

Contact: Regina McGill, Director, Funding and Financial Management Division, Office of Public and Assisted Housing Delivery, Office of Public and Indian Housing, Department of Housing and Urban Development, 451 Seventh Street, S.W.—Room 4216, Washington, D.C. 20410, (202) 708-1872.

• Regulation: 24 CFR 990.107(f) and 990.109.

Project/Activity: Tallahassee Housing Authority, FL. A request was made to permit the Authority to benefit from energy performance contracting for developments which have tenant-paid utilities. The HA estimates that it could increase savings substantially if it were able to undertake energy performance contracting for both PHA-paid and tenant-paid utilities.

Nature of Requirement: Under 24 CFR 990, the Performance Funding System (PFS) energy conservation incentive, that relates to energy performance contracting, currently applies to only PHA-paid utilities. The Tallahassee Housing Authority has both PHA-paid and tenant-paid utilities.

Granted By: Harold Lucas, Assistant Secretary for Public and Indian Housing.

Date Granted: December 27, 2000.

Reason Waived: In September 1996, the Oakland Housing Authority was granted a waiver to permit the Authority to benefit from energy performance contracting for developments with tenant-paid utilities. The waiver was granted on the basis that the Authority presented a sound and reasonable methodology for doing so. The Tallahassee Housing Authority requested a waiver based on the same approved methodology. The waiver permits the HA to exclude from its PFS calculation of rental income, increased rental income due to the difference between updated baseline utility (before implementation of the energy conservation measures) and revised allowances (after implementation of the measures) for the project(s) involved for the duration of the contract period, which cannot exceed 12 years.

[FR Doc. 01-11531 Filed 5-7-01; 8:45 am]

BILLING CODE 4210-01-P